Proclamation 10748 of May 3, 2024

National Hurricane Preparedness Week, 2024

By the President of the United States of America

A Proclamation

Too many families know the pain of having their lives and livelihoods devastated by powerful hurricanes, tropical storms, and typhoons. During National Hurricane Preparedness Week, we shed light on the dangerous impacts of hurricanes and share best practices on how to prepare and stay safe. We also show our gratitude to the first responders, volunteers, and all those who help to prepare communities in advance and rescue, recover, and rebuild in the wake of their darkest moments.

In Louisiana, Florida, New York, and Puerto Rico, I have walked the empty streets that hurricanes left behind. Community members have told me about the homes, churches, and small businesses that stood there only a few days before—how everything they had worked for had been wiped out. Hurricanes have caused billions of dollars in damage. With the climate crisis, extreme weather events like hurricanes may grow more frequent and intense.

My Administration has taken action to make our Nation more resilient to and prepared for extreme weather. Our Bipartisan Infrastructure Law—the most significant investment in infrastructure in decades—is strengthening, restoring, and building roads, bridges, and ports across our country. I also signed the Inflation Reduction Act—the most significant climate investment in the history of the world. With these pieces of legislation, we are investing tens of billions of dollars in building a future that keeps Americans safe from the threat of extreme weather. We are modernizing building codes to be more protective and upgrading electric grids so the power does not go out when storms land. We are helping States prepare safe evacuation routes and launch new construction projects that keep vulnerable coastal communities safe against extreme weather events like hurricanes and storm surges. We are revitalizing critical ecosystems like reefs, beaches, and wetlands that naturally keep us safer during storms by buffering shorelines against the waves.

This week, as we approach hurricane season, every American can take steps to plan, prepare, and better protect their families and homes. Review emergency plans and insurance policies and make sure they are up to date. Store important documents in a secure and accessible place, learn local evacuation routes, and prepare an emergency kit. If a storm approaches, keep a close eye on storm surge and hurricane warnings, and follow guidance from local authorities. Spreading awareness about preparation for hurricanes can make a huge difference in keeping friends, families, and neighbors safe. For more information, visit ready.gov for tips on how to protect yourself from all hazards.

I have often said that America is the only country that has emerged from every crisis stronger than when we entered it. That is in no small part due to the courage and compassion of volunteers, first responders, and everyday people who show up in the wake of disaster. They have put roofs over people's heads, rebuilt what was lost, and saved lives. This National Hurricane Preparedness Week, we honor their service, and we recommit to doing our part in keeping America's communities safe and secure from these disasters.

NOW, THEREFORE, I, JOSEPH R. BIDEN JR., President of the United States of America, by virtue of the authority vested in me by the Constitution and the laws of the United States, do hereby proclaim May 5 through May 11, 2024, as National Hurricane Preparedness Week. I urge all Americans to help build our climate-resilient Nation so that individuals, organizations, and community leaders are empowered to take action to make their communities more secure in the face of extreme weather and climate change. I call on our Federal, State, Tribal, territorial, and local government agencies to share information that will protect lives and property.

IN WITNESS WHEREOF, I have hereunto set my hand this third day of May, in the year of our Lord two thousand twenty-four, and of the Independence of the United States of America the two hundred and forty-eighth.

[FR Doc. 2024-10524

Filed 5-10-24; 8:45 am]

Billing code 3395-F4-P